ENVIRONMENTAL PROTECTION AGENCY

[FRL-6901-8]

Notice of Availability of Annex to the Report of the Grand Canyon Visibility Transport Commission

AGENCY: Environmental Protection Agency (EPA).

ACTION: Notice of availability.

SUMMARY: The purpose of this notice is to inform the public that the Western Regional Air Partnership (WRAP) has submitted an Annex to the 1996 report of the Grand Canyon Visibility Transport Commission (GCVTC) to EPA on September 29, 2000. This submittal was required under 40 CFR 51.309 of the regional haze rule in order for nine Western States to have the option of submitting State plans implementing the GCVTC recommendations by December 31, 2003. The Annex contains a number of recommendations addressing sulfur dioxide emissions (a key precursor to the formation of fine particles and regional haze) in the region, including a set of emissions milestones for the 2003-2018 period across the 9-State region. In the coming months, we will review the Annex to determine whether it meets the requirements of the regional haze rule and applicable requirements under the Clean Air Act (CAA). At the end of this review, we will propose changes to the regional haze rule to incorporate recommendations from the Annex if we find, after a formal 60-day public notice and comment period, that the Annex meets the requirements of the regional haze rule and the CAA.

Regarding today's notice of availability, we are not having a formal comment period on the Annex at this time. However, should members of the general public wish to provide any informal comments to us on the documents making up the Annex, we will consider these comments during the upcoming review of the Annex. We request that these informal comments be submitted to docket number A-2000-51 within 30 days of the date of publication of this notice.

ADDRESSES: Comments. We are not actively soliciting comments at this time, given that we will hold a formal comment period on any future regulatory proposal related to the Annex. We will, however, consider any written comments that you may wish to provide as we review the Annex. We request that any such written comments be submitted within 30 days of the date of publication of this notice.

Written comments should be submitted (in duplicate if possible) to: Air and Radiation Docket and Information Center (6102), Attention: Docket No. A-2000-51, U.S. Environmental Protection Agency, 1200 Pennsylvania Avenue, NW., Washington, DC 20460. We request that you also send a separate copy to the contact persons listed below (see FOR FURTHER INFORMATION CONTACT).

Comments may also be submitted to the EPA docket by electronic mail at A-and-R-Docket@epamail.epa.gov, or by fax at (202) 260-4400. Electronic comments must be submitted as an ASCII file avoiding the use of special characters and any form of encryption. Comments and data also will be accepted on computer disk in WordPerfect 5.1 (or higher) format, or in ASCII file format.

All comments and data provided in electronic form or by fax must be identified by the docket number A-2000-51. Electronic comments on this notice also may be filed online at many Federal Depository Libraries.

Docket. Docket No. A-2000-51 contains information related to this notice of availability, including the Annex documents received by EPA from the WRAP. Information at the Air and Radiation Docket Office may be inspected from 8 a.m. to 5:30 p.m., Monday through Friday, excluding legal holidays, at the following address: U.S. Environmental Protection Agency, 401 M Street, SW., Washington, DC 20460 in room M-1500, Waterside Mall (ground floor). You may contact the docket office by phone at (202) 260-7548. A reasonable fee may be charged for copying.

World Wide Web. The Annex documents may also be retrieved from EPA's website at: http://www.epa.gov/ttn/oarpg/gener.html.

FOR FURTHER INFORMATION CONTACT: Tim Smith (telephone (919) 541-4718; smith.tim@epa.gov) or Rich Damberg (telephone (919) 541-5592; damberg.rich@epa.gov), Mail Drop 15, EPA, Air Quality Strategies and Standards Division, Research Triangle Park, North Carolina, 27711.

SUPPLEMENTARY INFORMATION: The purpose of this notice is to inform the public that the WRAP has submitted an Annex to the 1996 report of the GCVTC to EPA on September 29, 2000. We have published the Annex on our website at the following address: http://www.epa.gov/ttn/oarpg/gener.html. The EPA is not providing a formal public comment period on the Annex, but should members of the general public wish to provide EPA any comments on the WRAP's Annex documents, EPA will consider these comments during its upcoming review of the Annex. The EPA would like to receive these informal comments in docket number A-2000-51 within 30 days of the date of publication of this notice.

On July 1, 1999, EPA published regulations in 40 CFR 51.300-309 to address regional haze in mandatory Federal Class I areas (156 national parks and wilderness areas) (64 FR 35714; July 1, 1999). Regional haze is a type of visibility impairment that is caused by the emissions of air pollutants from numerous sources across a broad region.

In the final regional haze rule, we included optional provisions that allow nine Western States to implement the specific recommendations of the GCVTC for improving visibility across the Colorado Plateau within the framework of the national regional haze program. These optional provisions are contained in section 40 CFR 51.309 of the regional haze rule. When EPA published the final regional haze rule, we recognized that the optional approach would be contingent on the submittal of an Annex to the GCVTC report by October 1, 2000 that contains acceptable stationary source sulfur dioxide emissions milestones for the nine-State region for the 2003-2018 period, as well as a backstop market trading program that would be implemented if any interim milestone is not achieved.

Specifically, section 51.309(f) of the regional haze rule required that the GCVTC (or a regional planning body formed to implement the Commission recommendations) submit to EPA an Annex to the GCVTC report no later than October 1, 2000 that provides for stationary source sulfur dioxide emissions milestones for the years 2003, 2008, 2013, and 2018. These milestones must provide for steady and continuing emissions reductions for the 2003-2018 time period consistent with the GCVTC's definition of reasonable progress, its goal of 50 to 70 percent reduction in sulfur dioxide emissions from 1990 actual emission levels by 2040, the applicable requirements under the CAA, and the timing of implementation plan assessments of progress and identification of deficiencies which will be due in the years 2008, 2013, and 2018. The emission reduction milestones must be shown to provide for greater reasonable progress than would be achieved by application of best available retrofit technology (BART) pursuant to section 51.308(e)(2) of the regional haze rule.

In addition to the emission milestones, the Annex was required by section 51.309 to contain documentation of a market trading program or other programs that would be implemented if current programs and voluntary measures fail to meet the emission milestones. This documentation must include model rules, memoranda of understanding, and other provisions describing in detail how emission reduction progress will be monitored, what conditions will require the market trading program to be activated, how allocations will be made, and how the program will operate.

This notice fulfills EPA's commitment under section 51.309(f)(3) of the regional haze rule to publish the Annex upon receipt. It does not contain EPA comments on the Annex or constitute any formal action on the Annex package at this time. The EPA stated in the regional haze rule that if we find, after public notice and opportunity for comment, that the Annex meets the requirements of the regional haze rule and applicable requirements under the CAA, EPA would incorporate recommendations from the Annex into the regional haze rule. The EPA would then review State implementation plans (SIPs) submitted in 2003 to determine whether they meet all of the requirements in the revised section 309 and provide for “reasonable progress” under the regional haze rule. However, if we find that the Annex does not meet the requirements in section 309(f), then each of the affected Western States must meet the requirements of section 51.308, the same regional haze requirements that apply to other States.

Based on discussions with WRAP participants, EPA anticipates that the WRAP will submit supplemental information to clarify certain issues discussed in the Annex. For example, the WRAP has committed to providing a protocol as part of the Annex that accounts for possible changes in emissions monitoring techniques at certain facilities that use continuous emissions monitors. The EPA will also provide a notice of availability indicating the receipt of any supplemental information related to the Annex and make it available on the EPA website.

In the coming months, the EPA will consider any supplemental information and any public comments received in its review of the Annex for consistency with the regional haze rule and the CAA. If EPA finds that the Annex meets the requirements in the regional haze rule and CAA, EPA will propose appropriate revisions to the regional haze rule.

Dated: November 6, 2000.
Robert Perciasepe,
Assistant Administrator for Air and Radiation.

[FR Doc. 00-29226 Filed 11-14-00; 8:45 am]

BILLING CODE 6560-50-P